FEDERAL COMMUNICATIONS COMMISSION

47 CFR Part 73

[DA 04-04-1729; MB Docket No. 04-239; RM-10998]

Radio Broadcasting Services; Portage and Stoughton, WI

AGENCY: Federal Communications Commission.

ACTION: Proposed rule.

SUMMARY: This document requests comments on a petition for rulemaking filed by Magnum Communications, Inc., licensee of Station WBKY(FM), Portage, Wisconsin proposing the reallotment of Channel 240A from Portage, Wisconsin to Stoughton, Wisconsin, as the community's first local transmission service, and the modification of the license for Station WBKY(FM) to reflect the changes. The coordinates for Channel 240A at Stoughton are 42-50-21 NL and 89-16-59 WL.

DATES: Comments must be filed on or before August 19, 2004, and reply comments on or before September 3, 2004.

ADDRESSES: Secretary, Federal Communications Commission, 445 Twelfth Street, SW., Washington, DC 20554. In addition to filing comments with the FCC, interested parties should serve the petitioner's counsel as follows: Denise B. Moline, Esq., PMB #215, 1212 S. Naper Blvd., #119, Naperville, Illinois, 60540.

FOR FURTHER INFORMATION CONTACT: Victoria McCauley, Media Bureau, (202) 418-2180.

SUPPLEMENTARY INFORMATION: This is a synopsis of the Commission's Notice of Proposed Rule Making, MB Docket No. 04-239, adopted June 23, 2004, and released June 28, 2004. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Wisconsin, is amended by removing Channel 240A at Portage and by adding Stoughton, Channel 240A.

Federal Communications Commission.
John A. Karousos,
Assistant Chief, Audio Division, Media Bureau.

[FR Doc. 04-16368 Filed 7-16-04; 8:45 am]

BILLING CODE 6712-01-P